DEPARTMENT OF HEALTH AND HUMAN SERVICES

Health Resources and Services Administration

Statement of Organization, Functions, and Delegations of Authority

This notice amends Part R of the Statement of Organization, Functions and Delegations of Authority of the Department of Health and Human Services (DHHS), Health Resources and Services Administration (60 FR 56605 as amended November 6, 1995, as last amended at 65 FR 48007, dated August 4, 2000).

This notice reflects the change in the organizational structure of the Maternal and Child Health Bureau (RM).

Establish the Office of Communications (RM8)

The Office of Communications plans, designs, executes and evaluates national and international communication and information dissemination programs which include the development of written and broadcast materials conveying complex information about the Maternal and Child Health Bureau, the maintenance of effective working relationships with high-level public and private sector policy makers and development of recommendations to improve MCHB program effectiveness. Specifically: (1) From various public and private sources, collects, translates, interprets and distributes for public use, information on maternal and child health care legislation, innovations, research and data trends; (2) develops and provides information materials to MCHB health program planners, providers, consumers and others to assist in decision making and maintaining effective, efficient operations; (3) develops and produces in-house communications to help ensure the understanding of current maternal and child health issues and Bureau program objectives; (4) fosters and maintains relationships with and provides a referral service to Federal agencies, State and local governmental units, private health and medical organizations, and other organizations with which the Bureau has mutual interests; (5) provides technical assistance to Bureau program managers and project officers in identifying maternal and child health information needs and developing information products; (6) provides technical assistance to Bureau program managers in information and communications product packaging, desktop publishing, and media relations; (7) produces reports, articles, briefings, speeches, exhibits and other multi-media communications on Bureau programs; (8) develops and implements new and innovative communication strategies including utilization of automated methods and electronic media in carrying out its responsibilities including managing and maintaining content of the Bureau's electronic web site, and liaison with the HRSA webmaster for technical support and design; and participation, coordination and content development in use of technologies such as satellite transmission and distance learning; (9) functions as media advisor to the Bureau Associate Administrator and other senior program staff; (10) reviews federal, state, and local legislation, issues, programs and policies and their impact on health care organization financing and service delivery to special populations served by Bureau programs; (11) identifies issues and problems and conducts appropriate analyses and studies in order to develop technical assistance products, presentations, seminars, and communications for the information and service needs of the intended audience; and (12) serves as principal liaison on behalf of MCHB in coordinating with HRSA's Office of Communications; through appropriate channels with other agency information, communications, and/or clearinghouses; with national constituency organizations such as the Association of Maternal and Child Health Programs, the American Academy of Pediatrics; with international organizations such as the World Health Organization and the Pan American Health Organization, and with health planners, service providers, and consumers, with respect to the development and dissemination of information on current and emerging health care issues, trends and problems affecting the services, program and populations served by the MCHB.

Delegations of Authority

All delegations and redelegations of authority which were in effect immediately prior to the effective date hereof have been continued in effect in them or their successors pending further redelegations.

This reorganization is effective upon date of signature.

Dated: October 12, 2000.
Claude Earl Fox,
Administrator.

[FR Doc. 00-29843 Filed 11-21-00; 8:45 am]

BILLING CODE 4160-15-P